DEPARTMENT OF JUSTICE

Notice Lodging of Consent Decree Under the Clean Air Act, Clean Water Act, and Resource Conservation and Recovery Act

Under 28 CFR § 50.7, notice is hereby given that on April 23, 2003, a proposed Consent Decree in United States v. Metal Management Midwest, Inc., Civil Action No. 01C-4551 was lodged with the United States District Court for the Northern District of Illinois.

In this action the United States sought civil penalties and injunctive relief relating to violations of the National Recycling and Emissions Reduction Program provisions of the Clean Air Act, as well as violations of the Clean Water Act and the Resource Conservation and Recovery Act (“RCRA”) at three scrap yards located in Chicago, Illinois. The Consent Decree requires that Metal Management Midwest come into compliance with the applicable environmental laws and regulations, produce and distribute educational materials relating to proper recycling and disposal of chlorofluorocarbons, conduct environmental compliance audits at four additional Illinois facilities, and pay a civil penalty in the form of a $2,275,500 allowed claim in Metal Management's chapter 11 bankruptcy action (In re: Metal Management, Inc., Case No. 00-4303 (Bankr. D. Del.)).

The Department of Justice will receive for a period of thirty (30) days from the date of this publication comments relating to Consent Decree. Comments should be addressed to the Assistant Attorney General, Environment and Natural Resources Division, P.O. Box 7611, U.S. Department of Justice, Washington, DC 20044-7611, and should refer to United States v. Metal Management Midwest, Inc., D.J. Ref. #90-5-2-1-07207.

The Consent Decree may be examined at the Office of the United States Attorney, 219 South Dearborn Street, Chicago, IL 60604, and at U.S. EPA Region 5, 77 West Jackson Blvd., Chicago, IL 60604. During the public comment period, the consent Decree, may also be examined on the following Department of Justice Web site, http//:www.usdoj.gov/enrd/open.html A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.50 (25 cents per page reproduction cost) payable to the U.S. Treasury.

William D. Brighton,
Assistant Chief, Environmental Enforcement Section, Environment and Natural Resources Division.

[FR Doc. 03-11399 Filed 5-7-03; 8:45 am]

BILLING CODE 4410-15-M